DEPARTMENT OF THE INTERIOR

Bureau of Reclamation

[INT-DES-02-51]

Banks Lake Drawdown, Columbia Basin Project, Washington

AGENCY: Bureau of Reclamation, Interior.

ACTION: Notice of extension of comment period for the Banks Lake Drawdown, Washington, draft Environmental Impact Statement.

SUMMARY: Pursuant to section 102(2)(C) of the National Environmental Policy Act of 1969, as amended, the Department of the Interior, Bureau of Reclamation (Reclamation), prepared a draft Environmental Impact Statement (draft EIS) to examine the impacts of alternatives to lower the minimum surface elevation for Banks Lake in August from 1,565 feet to 1,560 feet. The notice of availability appeared in 68 FR 1196-1197 on January 9, 2003.

DATES: The comment period for written comments on the draft EIS has been extended to April 11, 2003.

ADDRESSES: Written comments on the Draft EIS should be submitted to Mr. Jim Blanchard, Special Projects Officer, Bureau of Reclamation, 32 C Street, PO Box 815, Ephrata, WA 98823-0815; or by fax 509-754-0239, or by email at: jblanchard@pn.usbr.gov.

See the SUPPLEMENTARY INFORMATION section below for locations where copies of the DEIS are available for public review and inspection.

FOR FURTHER INFORMATION CONTACT: Mr. Jim Blanchard, Special Projects Officer, at 509-754-0226 (relay users may dial 711). Those wishing to obtain a copy of the draft EIS in the form of a printed document or on compact disk (CD-ROM with reader included) or a summary of the draft EIS may contact Mr. Blanchard.

SUPPLEMENTARY INFORMATION:

Public Disclosure

Our practice is to make comments, including names and home addresses of respondents, available for public review. Individual respondents may request that we withhold their home address from public disclosure, which we will honor to the extent allowable by law. If you wish us to withhold your name and/or address, you must state this prominently at the beginning of your comment. We will make all submissions from organizations or businesses, and from individuals identifying themselves as representatives or officials of organizations or businesses, available for public disclosure in their entirety.

Review and Inspection of the DEIS

Copies of the DEIS are available for public review and inspection at the following locations:

• Bureau of Reclamation, U.S. Department of the Interior, Room 7455, 18th and C Streets, NW., Washington, DC 20240.

• Bureau of Reclamation, Denver Office Library, Denver Federal Center, Building 67, Room 167, Denver, Colorado 80225.

• Bureau of Reclamation, Pacific Northwest Regional Office, 1150 North Curtis Road, Suite 100, Boise, Idaho 83706-1234.

• Bureau of Reclamation, Upper Columbia Area Office, 1917 Marsh Road, Yakima, Washington 98901.

• Bureau of Reclamation, Ephrata Field Office, 32 C Street, Ephrata, Washington 98823.

Libraries

• Bridgeport Community Library, Douglas County, 1206 Columbia Street, Bridgeport, WA 509-686-7281.

• Coulee City Community Library, 405 W. Main Street., Coulee City, WA 509-674-2313.

• Des Moines Library, 21620 11th Avenue S, Des Moines, WA 206-824-6066.

• East Wenatchee Community Library, Douglas County, 271 9th Street NE., East Wenatchee, WA 509-886-7404.

• Ephrata Public Library, 45 Alder NW., Ephrata, WA 509-754-3971.

• Grand Coulee Community Library, 225 Federal, Grand Coulee, WA 509-633-0972.

• Moses Lake Public Library, 418 E. 5th Avenue, Moses Lake, WA 509-765-3489.

• Quincy Community Library, 108 B Street SW., Quincy, WA 509-787-2359.

• Royal City Community Library, 356 Camelia, Royal City, WA 509-346-9281.

• Seattle Public Library, 800 Pike Street, Seattle, WA 206-386-4636.

• Soap Lake Community Library, 32 E Main, Soap Lake, WA 509-246-1313.

• Warden Community Library, 305 S Main, Warden, WA 509-349-2226.

• Wenatchee Public Library, Chelan County, 310 Douglas Street Wenatchee, WA 509-662-5021.

Internet

The DEIS is also available on the Internet at http://www.pn.usbr.gov.

Dated: February 28, 2003.
J. William McDonald,
Regional Director, Pacific Northwest Region, Bureau of Reclamation.

[FR Doc. 03-6268 Filed 3-14-03; 8:45 am]

BILLING CODE 4310-MN-P